INTERNATIONAL TRADE COMMISSION

[USITC SE-12-002]

Government in the Sunshine Act Meeting Notice

AGENCY HOLDING THE MEETING: United States International Trade Commission.

TIME AND DATE: January 26, 2012 at 11 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-302 and 731-TA-454 (Third Review)(Fresh and Chilled Atlantic Salmon from Norway). The Commission is currently scheduled to transmit its determinations and Commissioners' opinions to the Secretary of Commerce on or before February 8, 2012.

5. Outstanding action jackets: none.

In accordance with Commission policy, subject matter listed above, not disposed of at the scheduled meeting, may be carried over to the agenda of the following meeting.

By order of the Commission.
Issued: January 18, 2012.
William R. Bishop,
Hearings and Meetings Coordinator.

[FR Doc. 2012-1461 Filed 1-20-12; 11:15 am]

BILLING CODE 7020-02-P